DEPARTMENT OF HEALTH AND HUMAN SERVICES

[Document Identifier: OS-0990-xxxx]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 21, 2022.

ADDRESSES: Written comments and recommendations for the proposed information collection should be sent within 30 days of publication of this notice. To be assured consideration, comments and recommendations must be submitted www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-xxxx 30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Understanding Economic Risk for Low Income Families: Economic Security, Program Benefits, and Decisions about Work.

Type of Collection: New.

OMB No.: 0990-NEW—Office of the Assistant Secretary for Planning and Evaluation.

Abstract: The primary purpose of this study is to identify the risks that federal program benefit recipients weigh when faced with an opportunity to increase earnings, including benefit reductions, earnings instability, and the ease of regaining lost benefits if needed.

The study will use a discrete choice experiment to explore the importance of these considerations when low-income individuals are presented with a hypothetical opportunity to increase earnings. Statistical analysis will explore interactions between factors and threshold effects. The focus population will be persons currently receiving benefits from at least one of the following programs: Supplemental Nutrition Assistance Program (SNAP), Medicaid/Children's Health Insurance Program (CHIP), housing assistance, Child Care Development Fund (CCDF) subsidies, and/or Temporary Assistance for Needy Families (TANF). The study will explore whether different preferences are exhibited by parents with children and by persons of different races and ethnicities.

The results of this study will provide HHS with a better understanding of the economic risks that people weigh when they make decisions about increasing earnings, which will inform HHS policy and programs at large, and further lines of research around benefit programs and employment decisions.

The data will be collected once, using primarily a web-based survey, from a sample of low-income persons receiving one or more federal benefit programs. Respondents will be asked to review the vignette and choose whether they think the hypothetical individual should accept the earnings increase. In addition, the questionnaire includes follow-up questions for each vignette/experimental condition, and a set of demographic questions.

Annualized Burden Hour Table
Number of respondents | Number of responses per respondents | Average burden per response (in hours) | Total burden hours
2,000 | 1 | 15/60 | 500

Sherrette A. Funn,
Paperwork Reduction Act Reports Clearance Officer, Office of the Secretary.

[FR Doc. 2022-10730 Filed 5-18-22; 8:45 am]

BILLING CODE 4154-05-P